DEPARTMENT OF DEFENSE

Department of the Navy

[DoD-OS-2006-93]

Privacy Act of 1974; System of Records

AGENCY: Department of the Navy, DoD.

ACTION: Notice to amend systems of records.

SUMMARY: The Department of the Navy is amending a system of records notice in its existing inventory of record systems subject to the Privacy Act of 1974, (5 U.S.C. 552a), as amended.

DATES: This proposed acton will be effective without further notice on June 30, 2006 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: May 24, 2006.
L.M. Bynum,
OSD Federal Register Liaison Officer, Department of Defense.

N12410-1

System name:

MWR Training Student Database (May 11, 1999, 64 Fr 25312).

Changes:

* * * * *

System Identifier:

Delete entry and replace with: “NM12410-1”

* * * * *

System location:

Delete entry and replace with: “Navy Installations, Millington Detachment (N253), 5720 Integrity Drive, Millington, TN 38055-6500.”

Categories of individuals covered by the system:

Delete entry and replace with: “Civilian and military employees attached to non-appropriated fund activities under the Commander, Navy Installations Command and the Commandant of the Marine Corps.”

Categories of records in the system:

Delete entry and replace with: “Training records pertaining to the enrollment and completion status of persons attending Morale Welfare and Recreation (MWR) related training provided through the Navy Installations Command.”

Authority for maintenance of the system:

Delete entry and replace with: “10 U.S.C. 5013, Secretary of the Navy and E.O. 9397 (SSN).”

Purpose(s):

Delete entry and replace with: “To manage, supervise, and administer the centrally managed MWR training program for civilian and military employees attached to non-appropriated fund activities under the Commander, Navy Installations Command and Commandant of the Marine Corps. This includes providing information to supervisors on their employee's training and providing a record of Continuing Education Credits earned.”

Safeguards:

Delete entry and replace with: “Computer processing facilities are located in restricted areas accessible only to authorized persons that are properly screened, cleared, and trained. Manual records are computer printouts are only available to authorized personnel having a need to know. Access to individual computers is password protected. Access to the database is limited to personnel with a need to know. Each user has an individual password for access to the database.”

System manager(s) and address:

Delete entry and replace with: “Commander, Navy Installations, Millington Detachment (N253), 5720 Integrity Drive, Millington, TN 38055-6500.”

Notification procedure:

Delete entry and replace with: “Individuals seeking to determine whether information about themselves is contained in this system should address written inquiries to the Commander, Navy Installations, Millington Detachment (N253), 5720 Integrity Drive, Millington, TN 38055-6500.

Request should contain full name, Social Security Number, activity at which employed/attached, and signature of the requester.”

Record access procedures:

Delete entry and replace with: “Individuals seeking access to records about themselves contained in this system of records should address written inquiries to the Commander, Navy Installations, Millington Detachment (N253), 5720 Integrity Drive, Millington, TN 38055-6500.

Request should contain full name, Social Security Number, activity at which employed/attached, and signature of the requester.”

* * * * *

NM12410-1

System name:

MWR Training Student Database.

System location:

Navy Installations, Millington Detachment (N253), 5720 Integrity Drive, Millington, TN 38055-6500.

Categories of individuals covered by the system:

Civilian and military employees attached to non-appropriated fund activities under the Commander, Navy Installations Command and the Commandant of the Marine Corps.

Categories of records in the system:

Training records pertaining to the enrollment and completion status of persons attending Morale Welfare and Recreation (MWR) related training provided through the Navy Installations Command.

Authority for maintenance of the system:

10 U.S.C. 5013, Secretary of the Navy and E.O. 9397 (SSN).

Purpose(s):

To manage, supervise, and administer the centrally managed MWR training program for civilian and military employees attached to non-appropriated fund activities under the Commander, Navy Installations Command and Commandant of the Marine Corps. This includes providing information to supervisors on their employee's training and providing a record of Continuing Education Credits earned.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The “Blanket Routine Uses” that appear at the beginning of the Navy and Marine Corps' compilation of systems notices also apply to this system.

Policies and practices for storing, retrieving, accessing, retaining, and disposing of records in the system:

Storage:

Automated and manual records.

Retrievability:

Name, Social Security Number, class, and/or date of training.

Safeguards:

Computer processing facilities are located in restricted areas accessible only to authorized persons that are properly screened, cleared, and trained. Manual records are computer printouts are only available to authorized personnel having a need to know. Access to individual computers is password protected. Access to the database is limited to personnel with a need to know. Each user has an individual password for access to the database.

Retention and disposal:

Destroy 3 years after completion of the annual period or when no longer required for activity review and/or analysis, whichever is later.

System manager(s) and address:

Navy Personnel Command, 5720 Integrity Drive, Millington, TN 38055-6610.

Notification procedure:

Individuals seeking to determine whether information about themselves is contained i n this system should address written inquiries to the Navy Personnel Command (Pers-654), 5720 Integrity Drive, Millington, TN 38055-6540. Request should contain full name, Social Security Number, activity at which employed/attached, and signature of the requester.

The individual may visit the Navy Personnel Command (Pers-654), located in the Lassen Building, at 7736 Kitty Hawk Avenue, Millington, TN 38055-6540, for assistance with records located in that building.

Record access procedures:

Individuals seeking access to records about themselves contained in this system of records should address written inquiries to the Navy Personnel Command (Pers-654), 5720 Integrity Drive, Millington, TN 38055-6540. Request should contain full name, Social Security Number, activity at which employed/attached, and signature of the requester.

The individual may visit the Navy Personnel Command (Pers-654), located in the Lassen Building, at 7736 Hawk Avenue, Millington, TN 38055-6540, for assistance with records located in that building.

Contesting record procedures:

The Navy's rules for accessing records, and for contesting contents and appealing initial agency determinations are published in Secretary of the Navy Instruction 5211.5; 32 CFR part 701, or may be obtained from the system manager.

Record source categories:

Individual and local activity where assigned.

Exemptions claimed for the system:

None.

[FR Doc. 06-4968 Filed 5-30-06; 8:45 am]

BILLING CODE 5001-06-M